DEPARTMENT OF HEALTH AND HUMAN SERVICES

National Institutes of Health

National Institute of General Medical Sciences; Amended Notice of Meeting

Notice is hereby given of a change in the meeting of the National Institute of General Medical Sciences Special Emphasis Panel, July 18, 2008, 8 a.m. to July 18, 2008, 5 p.m., Hyatt Regency, One Bethesda Metro Center, Bethesda, MD 20814 which was published in the Federal Register on June 23, 2008, 73 FR 35404.

The panel name has been changed from Trauma and Burn to Minority Biomedical Research Support. The meeting is closed to the public.

Dated: June 26, 2008.
Jennifer Spaeth,
Director, Office of Federal Advisory Committee Policy.

[FR Doc. E8-15074 Filed 7-3-08; 8:45 am]

BILLING CODE 4140-01-M